DEPARTMENT OF LABOR

Mine Safety and Health Administration

Proposed Information Collection Request Submitted for Public Comments and Recommendations; Program to Prevent Smoking in Hazardous Areas

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before May 7, 2001.

ADDRESSES: Send comments to Brenda C. Teaster, Acting Chief, Records Management Division, 4015 Wilson Boulevard, Room 709A, Arlington, VA 22203-1984. Commenters are encouraged to send their comments on a computer disk, or via Internet E-mail to bteaster@msha.gov, along with an original printed copy. Ms. Teaster can be reached at (703) 235-1470 (voice), or (703) 235-1563 (facsimile).

FOR FURTHER INFORMATION CONTACT: Brenda C. Teaster, Acting Chief, Records Management Division, U.S. Department of Labor, Mine Safety and Health Administration, Room 709A, 4015 Wilson Boulevard, Arlington, VA 22203-1984. Ms. Teaster can be reached at bteaster@msha.gov (Internet E-mail), (703) 235-1470 (voice), or (703) 235-1563 (facsimile).

SUPPLEMENTARY INFORMATION:

I. Background

Section 317(c) of the Federal Mine Safety and Health Act of 1977 (Mine Act), 30 U.S.C. 877(c), and 30 CFR 75.1702 prohibits persons from smoking or carrying smoking materials underground or in places where there is a fire or explosion hazard. Under the Mine Act and § 75.1702, coal mine operators are required to develop programs to prevent persons from carrying smoking materials, matches, or lighters underground and to prevent smoking in hazardous areas, such as in or around oil houses, explosives magazines, etc. The Mine Act and the standard further require that the mine operator submit the program plan to MSHA for approval. The purpose of the program is to insure that a fire or explosion hazard does not occur.

II. Desired Focus of Comments

Currently, the Mine Safety and Health Administration (MSHA) is soliciting comments concerning the proposed extension of the information collection related to the Program to Prevent Smoking in Hazardous Areas. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act Submissions (http://www.msha.gov/regspwork.htm)”, or by contacting the employee listed above in the For Further Information Contact section of this notice for a hard copy.

III. Current Actions

It is necessary to continue this paperwork burden in order to ensure that mine operators continue to submit smoking materials search plans and that miners are continually protected from the hazards of igniting mine explosions or mine fires by the open flames of cigarette lighters and matches and smoldering tobacco products. Smoking continues to be a prevalent habit of underground coal miners when off work or when engaged in surface activities. Both the accidental or intentional carrying of smoking materials underground and the deliberate disregard for the safety of other miners can only be mitigated by the systematic programs to prohibit the carrying and use of smoking materials underground as required by 30 CFR 75.1702.

Type of Review: Extension (without change).

Agency: Mine Safety and Health Administration.

Title: Program to Prevent Smoking in Hazardous Areas.

OMB Number: 1219-0041.

Affected Public: Business or other for-profit institutions.

Cite/Reference/Form/etc: 30 CFR 75.1702.

Total Respondents: 188.

Frequency: On occasion.

Total Responses: 188.

Average Time per Response: 0.5 hour.

Total Burden Hours: 94 hours.

Total Burden Hour Cost: $4,932.

Total Burden Cost (capital/startup): $0.

Total Burden Cost (operating/maintaining): $0.

Comments submitted in response to this notice will be summarized and/or included in the request for Office of Management and Budget approval of the information collection request; they will also become a matter of public record.

Dated: February 28, 2001.
Brenda C. Teaster,
Acting Chief, Records Management Division.

[FR Doc. 01-5742 Filed 3-7-01; 8:45 am]

BILLING CODE 4510-23-M